DEPARTMENT OF ENERGY

Federal Energy Regulatory Commission

[Docket No. RP00-231-000]

Southern Natural Gas Company; Notice of Refund Report

April 4, 2000.

Take notice that on March 31, 2000, Southern Natural Gas Company (Southern Natural) tendered for filing a Refund Report.

Southern Natural states that pursuant to Section 38.3 of the General Terms and Conditions of Southern Natural's Tariff the Refund Report sets forth Excess Storage Usage Charges to be refunded to Rate Schedule CSS customers.

Any person desiring to be heard or to protest said filings should file a motion to intervene or a protest with the Federal Energy Regulatory Commission, 888 First Street, N.E., Washington, D.C. 20426, in accordance with Sections 385.214 or 385.211 of the Commission's Rules and Regulations. All such motions or protests must be filed on or before April 11, 2000. Protests will be considered by the Commission in determining the appropriate action to be taken, but will not serve to make protestants parties to the proceedings. Any person wishing to become a party must file a motion to intervene. Copies of this filing are on file with the Commission and are available for public inspection in the Public Reference Room. This filing may be viewed on the wet at http://www.ferc.fed.us/online/rims.htm (call 202-208-2222 for assistance).

Linwood A. Watson, Jr.,
Acting Secretary.

[FR Doc. 00-8749 Filed 4-7-00; 8:45 am]

BILLING CODE 6717-01-M